DEPARTMENT OF HEALTH AND HUMAN SERVICES

Health Resources and Services Administration

Agency Information Collection Activities: Proposed Collection: Public Comment Request: HRSA Ryan White HIV/AIDS Program Part F AIDS Education and Training Center Program Evaluation Activities, OMB No. 0915-0281—Extension

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR should be received no later than July 11, 2022.

ADDRESSES: Submit your comments by email to paperwork@hrsa.gov or by mail to the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer, at (301) 443-9094.

SUPPLEMENTARY INFORMATION:

Information Collection Request Title: HRSA Ryan White HIV/AIDS Program Part F AIDS Education and Training Center Evaluation Activities, OMB No. 0915-0281—Extension.

Abstract: The Ryan White HIV/AIDS Program's (RWHAP) Part F AIDS Education and Training Center (AETC) Program, authorized under Title XXVI of the Public Health Service Act, supports a network of regional and national centers that conduct targeted, multi-disciplinary education and training programs for health care providers treating people with HIV. The RWHAP AETC Program's purpose is to increase the number of health care providers who are effectively educated and motivated to counsel, diagnose, treat, and medically manage people with HIV.

The RWHAP AETC Program recipients gather data on the training activities they conduct using two data collection instruments. The Event Record (ER) gathers information about each training activity, including training programs, individual clinical consultations, group clinical consultations, and technical assistance events. Information on the people trained, the length of training, the content and level of the training, and collaborations with other organizations is also collected. The Participant Information Form (PIF) collects information from each of the training participants, including demographics, profession, the types of HIV services they provide, and the characteristics of the patient population they serve. The RWHAP AETC Program recipients are required to report data on the training activities and trainees to HRSA once a year.

HRSA is requesting an extension of the current ER and PIF with minor changes. To more accurately capture the length of a training event, RWHAP AETC trainers will be asked to report the event's end date in addition to the start date. Additionally, if an event was not supported by RWHAP AETC base grant funding, respondents will be able to skip three subsequent questions on the ER that are not applicable. An update was made to the wording of a question on funding sources for clarity (i.e., AETC programmatic funding was changed to AETC Base Grant funding). The skip logic in the response options was also modified to improve reporting. Respondents will also have the option to report multiple clinic and health professional program identification numbers to reflect multiple affiliations on the ER. Additional options were added for multiple questions in the ER to allow for more complete responses (e.g. an “other” response option was added to two questions; and response options such as trauma-informed care, gender affirming care, transgender/non-binary/other gender, people experiencing homelessness, and people with justice system involvement were added to capture relevant event topics). In addition to changes on the ER, minor revisions were made to the response options for multiple questions on the PIF to improve clarity (e.g., “Substance Abuse” was changed to “Substance Use Disorder”). Additionally, the question and response options on gender were updated. Lastly, options were added to multiple questions to allow for more complete responses. For example, questions on gender, racial and ethnic identity now include “Choose Not to Disclose” as response options.

A 60-day notice published in the Federal Register, Volume 87. No. 31, FR pp. 8593-8594 (February 15, 2022). There were two public comments proposing minor revisions to the ER and PIF forms. Most of the public comments were accepted. Comments were rejected if they were out of scope, did not make sense in the context of the question, or could be addressed by an “other” response option. In addition to the comments, two RWHAP AETC Programs requested copies of the revised PIF and ER forms, but did not provide any comments.

Need and Proposed Use of the Information: HRSA uses the data collected when conducting RWHAP AETC programmatic assessments to determine future program needs. These data allow HRSA to identify where gaps exist in training HIV professionals as well as to measure whether training events are meeting the goals of the National HIV/AIDS Strategy.

Likely Respondents: RWHAP AETC trainees complete the PIF either at the start or at the conclusion of an event. Trainers complete an ER for each training event they conduct during the year. In addition, each regional RWHAP AETC (eight total) and the RWHAP AETC National Coordinating Resource Center compile these data once a year for submission to HRSA.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Average burden per response (in hours) | Total burden hours
Participant Information Form | 164,385 | 1 | 0.167 | 27,452
Event Record | 12,980 | 1 | 0.200 | 2,596
Combined Data Set | 8 | 1 | 32.000 | 256
| 177,373 |  |  | 30,304

The burden estimate for this request is for 30,304 hours, a large increase of 25,872 hours from the previous estimate of 4,432 hours. This surge is mostly due to the increase of estimated trainees attending the training events, from 61,288 to 164,385 participants, and an increase in training events, from 10,522 to 12,980 events. The burden estimate in submitting the data set also increased from 4.5 to 32 hours due to the larger amount of data requested.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-12469 Filed 6-8-22; 8:45 am]

BILLING CODE 4165-15-P